DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 24, 2009.

Interested persons are invited to submit written comments regarding the subject matter of the investigations to the Director, Division of Trade Adjustment Assistance, at the address shown below, not later than April 24, 2009.

The petitions filed in this case are available for inspection at the Office of the Director, Division of Trade Adjustment Assistance, Employment and Training Administration, U.S. Department of Labor, Room N-5428, 200 Constitution Avenue, NW., Washington, DC 20210.

Signed at Washington, DC, this 6th day of April 2009.
Linda G. Poole,
Certifying Officer, Division of Trade Adjustment Assistance.

APPENDIX
[TAA petitions instituted between 3/16/09 and 3/20/09]
TA-W | Subject firm (petitioners) | Location | Date of institution | Date of petition
65592 | Tyco Electronics (Wkrs) | Greensboro, NC | 03/16/09 | 03/11/09
65593 | OFS Brands, Inc. Plant #8 (Wkrs) | Huntingburg, IN | 03/16/09 | 03/07/09
65594 | Brunswick Bowling and Billiard Corporation (State) | Muskegon, MI | 03/16/09 | 03/13/09
65595 | FMI Copper and Gold (Wkrs) | Safford, AZ | 03/16/09 | 02/23/09
65596 | Nortech Systems (State) | Bemidji, MN | 03/16/09 | 03/13/09
65597 | Eclipse Manufacturing Company (Comp) | Pikeville, TN | 03/16/09 | 03/11/09
65598 | Lincoln Electric/Harris Products Group (Wkrs) | Mason, OH | 03/16/09 | 03/13/09
65599 | Century Mold Company, Inc. (Comp) | Shelbyville, TN | 03/16/09 | 03/13/09
65600 | Isonics Vancouver, Inc. (Wkrs) | Vancouver, WA | 03/16/09 | 03/11/09
65601 | GMVM Orion Assembly (UAW) | Orion, MI | 03/16/09 | 02/16/09
65602 | Lee Mah Electronics (Wkrs) | San Francisco, CA | 03/16/09 | 02/27/09
65603 | CMI Equipment and Engineering (Wkrs) | AuGres, MI | 03/16/09 | 03/12/09
65604 | Salmon River Wood, Inc. (Comp) | Missoula, MT | 03/16/09 | 03/07/09
65605 | Weyerhaeuser Level (State) | Grayling, MI | 03/16/09 | 02/20/09
65606 | Sumco USA (Wkrs) | Maineville, OH | 03/16/09 | 03/11/09
65607 | The Mazer Corporation/Printing Services (Wkrs) | Johnson City, TN | 03/17/09 | 03/13/09
65608 | WestPoint Home Bed Products Division—Abbeville (Comp) | Abbeville, AL | 03/17/09 | 03/16/09
65609 | Columbia Forest Products (State) | Trumann, AR | 03/17/09 | 02/23/09
65610 | True Textiles, Inc. (Comp) | Lancaster, SC | 03/17/09 | 03/16/09
65611 | Kreber (Comp) | High Point, NC | 03/17/09 | 03/16/09
65612 | Signature Aluminum (Wkrs) | Greenville, PA | 03/17/09 | 03/09/09
65613 | Thermo-Electric Company (Whitehall) (Comp) | Imperial, PA | 03/17/09 | 03/16/09
65614 | Auto Truck Transportation (Wkrs) | Cleveland, NC | 03/17/09 | 03/16/09
65615 | Temic Automotive of North America, Inc. (Comp) | Northbrook, IL | 03/17/09 | 03/16/09
65616 | Tensolite—A Carlisle Company (Wkrs) | Vancouver, WA | 03/17/09 | 02/27/09
65617 | EconQuest Holding Corporation (Rep) | Greeneville, TN | 03/17/09 | 03/16/09
65618 | First American (Wkrs) | San Diego, CA | 03/17/09 | 03/13/09
65619 | National Mills, Inc. (Comp) | Pittsburg, KS | 03/17/09 | 03/16/09
65620 | Foamade Industries, Inc. (Wkrs) | Auburn Hills, MI | 03/17/09 | 03/13/09
65621 | Mississippi Polymers, Inc. (Comp) | Corinth, MS | 03/18/09 | 03/17/09
65622 | Groat Bros, Inc. (Wkrs) | Woodland, WA | 03/18/09 | 03/17/09
65623 | Leviton Manufacturing Company, Inc. (Comp) | Warwick, RI | 03/18/09 | 03/17/09
65624 | SpringBoard Technology Corporation (Comp) | Springfield, MA | 03/18/09 | 03/09/09
65625 | Delphi Thermal Systems (Comp) | Auburn Hills, MI | 03/18/09 | 02/26/09
65626 | Russell Brands, LLC (Comp) | Wetumpka, AL | 03/18/09 | 03/17/09
65627 | Steelscape (Comp) | Rancho Cucamonga, CA | 03/18/09 | 03/13/09
65628 | St. Mary's Tool and Die (Wkrs) | St. Mary's, PA | 03/18/09 | 03/11/09
65629 | CoAdna Photonics (Wkrs) | Sunnyvale, CA | 03/18/09 | 02/13/09
65630 | National Envelope Corporation (USWA) | Scottdale, PA | 03/18/09 | 03/10/09
65631 | MetoKote Corporation (Comp) | LaPeer, MI | 03/18/09 | 03/12/09
65632 | Rite Hite Duct Sox (Wkrs) | Dubuque, IA | 03/18/09 | 03/13/09
65633 | Plexus Corp (Wkrs) | Nampa, ID | 03/19/09 | 03/12/09
65634 | Northern Engraving (State) | Spring Grove, MN | 03/19/09 | 03/18/09
65635 | Astellas Pharma Manufacturing, Inc. (Wkrs) | Grand Island, NY | 03/19/09 | 03/18/09
65636 | A.R.E. Manufacturing, Inc. (Comp) | Newberg, OR | 03/19/09 | 03/16/09
65637 | Continental Sprayers (Wkrs) | St. Peters, MO | 03/19/09 | 03/18/09
65638 | Greenfield Research, Inc. (Comp) | Greenfield, OH | 03/19/09 | 03/18/09
65639 | Tyco Safety Products (Comp) | Westminster, MA | 03/20/09 | 01/30/09
65640 | Gaston County Dyeing Machine Company (State) | Mount Holly, NC | 03/20/09 | 03/11/09
65641 | United Airlines, Inc. (IBT) | San Francisco, CA | 03/20/09 | 03/10/09
65642 | Hella Corporate Center USA (62839) | Flora, IL | 03/20/09 | 03/18/09
65643 | Martin Aborn, Inc. (Wkrs) | Hingham, MA | 03/20/09 | 03/10/09
65644 | Rowe International Corporation (Comp) | Grand Rapids, MI | 03/20/09 | 03/18/09
65645 | Ultimizers, Inc. (Comp) | Boring, OR | 03/20/09 | 03/12/09
65646 | Honeywell International (Comp) | Olathe, KS | 03/20/09 | 03/19/09
65647 | Manitowoc Cranes (Wkrs) | Shady Grove, PA | 03/20/09 | 03/18/09
65648 | Aleris International (USW) | Lewisport, KY | 03/20/09 | 03/18/09

[FR Doc. E9-8405 Filed 4-13-09; 8:45 am]

BILLING CODE 4510-FN-P